DEPARTMENT OF AGRICULTURE

Rural Utilities Service

Information Collection Activity; Comment Request

AGENCY: Rural Utilities Service, USDA.

ACTION: Notice and request for comments.

SUMMARY: In accordance with the Paperwork Reduction Act of 1995 (44 U.S.C. chapter 35, as amended), the Rural Utilities Service (RUS) invites comments on this information collection for which RUS intends to request approval from the Office of Management and Budget (OMB).

DATES: Comments on this notice must be received by March 25, 2002.

FOR FURTHER INFORMATION CONTACT: F. Lamont Heppe, Jr., Director, Program Development and Regulatory Analysis, Rural Utilities Service, 1400 Independence Ave., SW., STOP 1522, Room 4036 South Building, Washington, DC 20250-1522. Telephone: (202) 720-9550. Fax: (202) 720-4120.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that RUS is submitting to OMB as a revision to an existing collection. Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to: F. Lamont Heppe, Jr., Director, Program Development and Regulatory Analysis, Rural Utilities Service, U.S. Department of Agriculture, STOP 1522, 1400 Independence Ave., SW., Washington, DC 20250-1522. Fax: (202) 720-4120.

Title: Accounting Requirements for Electric and Telecommunications Borrowers.

OMB Control Number: 0572-0003.

Type of Request: Revision of a currently approved collection.

Abstract: RUS is proposing to revise record retention requirements for its Electric and Telecommunications borrowers more in line with standard industry practices. Three areas that we consider to be industry practice but will be specifically addressed are:

• Establishment and maintenance of an index of accounts.

• Retention of loan fund records until they are audited by RUS, generally three years or less.

• Retention of plant records for 25 years or the life of the plant plus ten years, this being necessary to support depreciation and amortization schedules.

RUS contends that this is the minimum record retention requirements needed to carry out its due diligence responsibilities in loan underwriting and maintaining loan security.

RUS borrowers should understand that they may be subject to additional record retention requirements imposed by other regulatory authorities such as FERC, FCC, state commissions and IRS.

Estimate of Burden: Public reporting burden for this collection of information is estimated to average 2 hours per response.

Respondents: Business or other for-profit, Not-for-profit institutions.

Estimated Number of Respondents and Recordkeepers: 1,660.

Estimated Number of Responses per Respondent: 1.

Estimated Number of Hours per Recordkeeper: 36 hours.

Estimated Total Annual Burden on Respondents: 3,320 hours.

Estimated Total Annual Burden on Recordkeepers: 29,653 hours.

Copies of this information collection can be obtained from Michele Brooks, Program Development and Regulatory Analysis, at (202) 690-1078. Fax: (202) 720-4120.

All responses to this notice will be summarized and included in the request for OMB approval. All comments will also become a matter of public record.

Dated: January 14, 2002.
Hilda Gay Legg,
Administrator, Rural Utilities Service.

[FR Doc. 02-1479 Filed 1-18-02; 8:45 am]

BILLING CODE 3410-15-P